ENVIRONMENTAL PROTECTION AGENCY

[ER-FRL-9048-8]

Environmental Impact Statements; Notice of Availability

Weekly receipt of Environmental Impact Statements filed December 30, 2019, 10 a.m. EST Through January 6, 2020, 10 a.m. EST, pursuant to 40 CFR 1506.9.

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200004, Final, BLM, CO, Domestic Sheep Grazing Permit Renewals, Review Period Ends: 02/10/2020, Contact: Kristi Murphy 970-642-4955

EIS No. 20200005, Final, USN, NV, Fallon Range Training Complex Modernization, Review Period Ends: 02/10/2020, Contact: Sara Goodwin 619-532-4463

Amended Notice

EIS No. 20190274, Revised Draft, BIA, OK, Osage County Oil and Gas Draft Environmental Impact Statement, Comment Period Ends: 02/21/2020, Contact: Mosby Halterman 918-781-4660. Revision to FR Notice Published 12/20/2019; Correcting the Document Type from Draft to Revised Draft and Extending the Comment Period from 1/22/2020 to 2/21/2020.

Dated: January 6, 2020.
Robert Tomiak,
Director, Office of Federal Activities.

[FR Doc. 2020-00216 Filed 1-9-20; 8:45 am]

BILLING CODE 6560-50-P